DEPARTMENT OF COMMERCE

International Trade Administration

[A-549-813]

Notice of Final Results of Antidumping Duty Administrative Review and Final Determination To Revoke Order in Part: Canned Pineapple Fruit From Thailand

AGENCY: Import Administration, International Trade Administration, U.S. Department of Commerce.

SUMMARY: On April 8, 2004, the Department of Commerce (“the Department”) published the preliminary results of its administrative review of the antidumping duty order on canned pineapple fruit (“CPF”) from Thailand. This review covers four producers/exporters of the subject merchandise. The period of review (“POR”) is July 1, 2002 through June 30, 2003. Based on our analysis of the comments received, these final results differ from the preliminary results. The final results are listed below in the Final Results of Review section.

Consistent with the preliminary results, we are revoking the order with respect to Dole Food Company, Inc., Dole Packaged Foods Company, Dole Thailand, Ltd., (collectively “Dole”) Kuiburi Fruit Canning Co., Ltd., and The Thai Pineapple Public Co., Ltd., based on our determination that these companies have demonstrated three consecutive years of sales at not less than normal value and their respective aggregate sales to the United States have been made in commercial quantities during the last three segments of this proceeding.

EFFECTIVE DATE: August 13, 2004.

FOR FURTHER INFORMATION CONTACT: Marin Weaver or Charles Riggle, AD/CVD Enforcement, Import Administration, International Trade Administration, U.S. Department of Commerce, 14th Street and Constitution Avenue, NW., Washington, DC 20230; telephone: (202) 482-2336 and (202) 482-0650, respectively.

SUPPLEMENTARY INFORMATION:

Background

This review covers the following producers/exporters of merchandise subject to the antidumping duty order on CPF from Thailand: Dole, Kuiburi Fruit Canning Co., Ltd. (“Kuiburi”), The Thai Pineapple Public Co., Ltd. (“TIPCO”), and Vita Food Factory (1989) Co., Ltd. (“Vita”).

On April 8, 2004, the Department published the preliminary results of this review and invited interested parties to comment on those results. See Notice of Preliminary Results and Preliminary Determination to Revoke Order in Part: Canned Pineapple Fruit From Thailand, 69 FR 18524 (Preliminary Results). On May 10, 2004, we received case briefs from Dole and the petitioners.¹ On May 17 and 18, 2004, we received rebuttal briefs from the petitioners and Dole, respectively.² Dole requested a hearing but subsequently withdrew this request in a letter to the Department dated May 19, 2004.

¹ The petitioners in the case are Maui Pineapple Company and the International Longshoremen's and Warehousemen's Union.

² We note that the Dole rebuttal brief was timely because it was filed on May 17, 2004, with bracketing not final and then re-filed on May 18, 2004, with bracketing final.

On June 28, 2004, the Department published the Final Results of Antidumping Duty Changed Circumstances Review: Canned Pineapple Fruit from Thailand, 69 FR 36058, where we found that Tipco Foods (Thailand) Public co., Ltd. (Tipco Foods) is the successor-in-interest to TIPCO as of December 2003 when TIPCO changed its name to Tipco Foods. Even though the name change occurred after the POR, the Department conducted the changed circumstances review in conjunction with the instant review because we are revoking the order as to TIPCO/Tipco Foods.

Scope of the Order

The product covered by this order is CPF, defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (“HTSUS”). HTSUS 2008.20.0010 covers CPF packed in a sugar-based syrup; HTSUS 2008.20.0090 covers CPF packed without added sugar (i.e., juice-packed). Although these HTSUS subheadings are provided for convenience and for customs purposes, the written description of the scope is dispositive.

Analysis of Comments Received

All issues raised in the case and rebuttal briefs by parties to this review are addressed in the Issues and Decision Memorandum for the Final Results of the Eighth Antidumping Duty Administrative Review: Canned Pineapple Fruit from Thailand from Jeffrey A. May, Deputy Assistant Secretary for Import Administration, Group I, to Joseph A. Spetrini, Acting Assistant Secretary for Import Administration, dated August 6, 2004 (Decision Memorandum), which is hereby adopted by this notice.

A list of the issues which the parties have raised and to which we have responded, all of which are addressed in the Decision Memorandum, is attached to this notice as an Appendix. Parties can find a complete discussion of all issues raised in this review and the corresponding recommendations in this public memorandum, which is on file in the Central Records Unit, room B-099 of the main Commerce building.

In addition, a complete version of the Decision Memorandum can be accessed directly on the Internet at http://ia.ita.doc.gov/frn. The paper copy and electronic version of the Decision Memorandum are identical in content.

Fair Value Comparisons

Except for the calculations for Dole and Kuiburi, we calculated export price (“EP”), constructed export price (“CEP”), and normal value (“NV”) based on the same methodology used in the preliminary results. Changes to the ocean freight, U.S-dollar denominated credit expenses, and Euro-denominated direct and indirect selling expenses for Kuiburi, and the programming language used to apply the revised early payment discounts, the application of an adverse inference of facts available for Dole's unreported sales to Puerto Rico, and the re-calculation of foreign indirect selling expenses for Dole are detailed in their respective analysis memoranda and/or the Decision Memorandum.

Cost of Production

We calculated the cost of production (“COP”) for the merchandise based on the same methodology used in the preliminary results.

Revocation of the Order in Part

On July 28, 2003, both Kuiburi and TIPCO, and on July 31, 2003, Dole, requested that, pursuant to 19 CFR 351.222(b)(2), the Department revoke the antidumping duty order in part based on their three consecutive years of sales at not less than normal value. Dole, Kuiburi, and TIPCO submitted, along with their revocation requests, a certification stating that: (1) Each company sold subject merchandise at not less than NV during the POR, and that in the future each company would not sell such merchandise at less than NV (see 19 CFR 351.222 (e)(1)(i)); (2) Each company has sold the subject merchandise to the United States in commercial quantities during each of the past three years (see 19 CFR 351.222(e)(1)(ii)); and (3) Each company agreed to its immediate reinstatement in the order, as long as any exporter or producer is subject to the order, if the Department concludes that the company, subsequent to the revocation, sold the subject merchandise at less than NV. See 19 CFR 351.222(b)(2)(iii), and as referenced at 19 CFR 351.222(e)(1)(iii)). No comments were filed by any party on our preliminary decision to revoke the order with respect to Dole, Kuiburi, or TIPCO.

Based on the final results of this review and the final results of the two preceding reviews (see Preliminary Results; Notice of Final Results of Antidumping Duty Administrative Review, Rescission of Administrative Review in Part, and Final Determination to Revoke Order in Part: Canned Pineapple Fruit from Thailand, 67 FR 76718 (December 13, 2002); and Notice of Final Results of Antidumping Duty Administrative Review, Rescission of Administrative Review in Part, and Final Determination to Not Revoke Order in Part: Canned Pineapple Fruit from Thailand, 68 FR 65247 (November 19, 2003)), Dole, Kuiburi, and TIPCO have demonstrated three consecutive years of sales at not less than NV. Furthermore, Dole's, Kuiburi's, and TIPCO's aggregate sales to the United States have been made in commercial quantities during the last three segments of this proceeding. See the April 1, 2004, Memorandum to Holly Kuga: Preliminary Determination to Revoke in Part the Antidumping Duty Order on Canned Pineapple Fruit from Thailand.

Based on the above facts and absent any evidence to the contrary, the Department determines that the continued application of the order to Dole, Kuiburi, and TIPCO/Tipco Foods is not otherwise necessary to offset dumping. Dole, Kuiburi, and TIPCO/Tipco Foods has each agreed in writing to its immediate reinstatement in the order, as long as any producer or exporter is subject to the order, should the Department conclude that Dole, Kuiburi, and/or TIPCO/Tipco Foods, subsequent to the revocation, sold the subject merchandise at less than NV. Therefore, we revoke the order with respect to merchandise produced and exported by Dole, Kuiburi, and TIPCO/Tipco Foods. In accordance with 19 CFR 351.222(f)(3), we will terminate the suspension of liquidation for any such merchandise entered, or withdrawn from warehouse, for consumption on or after July 1, 2003, and will instruct U.S. Customs and Border Protection (CBP) to refund any cash deposit.

Final Results of Review

As a result of our review, we determine that the following weighted-average percentage margins exist for the period July 1, 2002, through June 30, 2003:

Manufacturer/exporter | Margin (percent)
Dole Food Company, Inc. (Dole) | 0.20 (de minimis)
Kuiburi Fruit Canning Co. Ltd. (Kuiburi) | 0.31 (de minimis)
The Thai Pineapple Public Company, Ltd. (TIPCO) | 0.12 (de minimis)
Vita Food Factory (1989) Co. Ltd. (Vita) | 0.96

The Department will determine, and CBP will assess, antidumping duties on all appropriate entries. In accordance with 19 CFR 351.212(b)(1) of the Department's regulations, we have calculated importer-specific assessment rates by dividing the dumping margin found on the subject merchandise examined by the entered value of such merchandise. Where the importer-specific assessment rate is above de minimis we will instruct CBP to assess antidumping duties on that importer's entries of subject merchandise. The Department will issue appropriate assessment instructions directly to CBP within 15 days of publication of these final results of review.

Furthermore, the following deposit requirements will be effective for all shipments of the subject merchandise entered, or withdrawn from warehouse, for consumption on or after the publication date of these final results of administrative review, as provided by section 751(a) of the Tariff Act of 1930, as amended, (the Act): (1) For Vita the cash deposit rate will be the rate listed above; (2) For merchandise exported by manufacturers or exporters not covered in this review but covered in a previous segment of this proceeding, the cash deposit rate will continue to be the company-specific rate published in the most recent final results in which that manufacturer or exporter participated; (3) If the exporter is not a firm covered in this review or in any previous segment of this proceeding, but the manufacturer is, the cash deposit rate will be that established for the manufacturer of the merchandise in these final results of review or in the most recent segment of the proceeding in which that manufacturer participated; and (4) If neither the exporter nor the manufacturer is a firm covered in this review or in any previous segment of this proceeding, the cash deposit rate will be 24.64 percent, the all-others rate established in the less-than-fair-value investigation. These deposit requirements shall remain in effect until publication of the final results of the next administrative review.

This notice also serves as a final reminder to importers of their responsibility under 19 CFR 351.402(f) of the Department's regulations to file a certificate regarding the reimbursement of antidumping duties prior to liquidation of the relevant entries during this review period. Failure to comply with this requirement could result in the Secretary's presumption that reimbursement of antidumping duties occurred and the subsequent assessment of double antidumping duties.

This notice also is the only reminder to parties subject to administrative protective order (APO) of their responsibility concerning the return/destruction or conversion to judicial protective order of proprietary information disclosed under APO in accordance with 19 CFR 351.305(a)(3) of the Department's regulations. Failure to comply is a violation of the APO.

This determination is issued and published in accordance with sections 751(a)(1) and 777(i)(1) of the Act.

Dated: August 6, 2004.
Joseph A. Spetrini,
Acting Assistant Secretary for Import Administration.

Appendix—List of Comments in the Issues and Decision Memorandum

I. Issues Specific to Dole

Comment 1: Sales Process

Comment 2: Quantity and Value and Completeness

Comment 3: Foreign Indirect Selling Expenses

Comment 4: Repacking

Comment 5: Short-Term Borrowing Rate

Comment 6: Warranties

Comment 7: General and Administrative (G&A) Expense

Comment 8: Interest Expense

Comment 9: Credit Expenses

Comment 10: Early Payment Discount

II. Issues Specific to Kuiburi

Comment 11: Conversion of Euro-denominated Gross Unit Prices

Comment 12: Unreported Sales to Puerto Rico

Comment 13: Ocean Freight Currency Denomination

Comment 14: Credit Expense

Comment 15: Net Realizable Value (NRV) Calculation

Comment 16: Discrepancies in Gross Unit Price Calculations

Comment 17: Direct and Indirect Selling Expense for Euro-Denominated Sales

[FR Doc. 04-18548 Filed 8-12-04 8:45 am]

BILLING CODE 3510-DS-P